Proclamation 10184 of April 17, 2021

National Park Week, 2021

By the President of the United States of America

A Proclamation

The renowned environmentalist and author, Rachel Carson, wrote in her seminal book Silent Spring that, “Those who contemplate the beauty of the earth find reserves of strength that will endure as long as life lasts. There is something healing in the repeated refrains of nature—the assurance that dawn comes after night, and spring after winter.” Nowhere is the truth of her observation more evident than in America's national parks, which are irreplaceable treasures that amaze us, inspire us, fill us with pride, and belong to all of us in equal measure.

Even while maintaining social distancing and wearing masks to protect themselves and one another, 237 million people visited our national parks last year to enjoy these singular wonders of our Nation. Every visit leaves an indelible impression—due not only to the natural splendor of each park, but to the dedicated stewardship of the Department of the Interior and National Park Service.

I will never forget one of my own such visits, which has long shaped my personal reverence for our national parks. In 1972, after my wife and daughter were killed in a car accident, my two young sons, Beau and Hunter, were hospitalized for an extended period. As they recovered, they became enamored of the idea of visiting Yellowstone—thanks in large part to a favorite TV show, Yogi Bear, which was set in a fictionalized version of America's first national park. In the summer of 1974, my boys and I flew into Salt Lake City, rented a camper, drove up through Dinosaur National Park and arrived for a week at Yellowstone. Our time there nourished us, filled us with awe, and restored in all of us a sense of the future that had been quieted by our loss. As I saw my sons reengage with the world after enduring so much pain, and felt our family begin to heal, I came to understand the truth of Rachel Carson's words—the power and promise of these extraordinary places to replenish something within us.

That power touches every American lucky enough to visit our national parks in some way, and it is our responsibility to ensure that our national parks reflect, honor, and serve all of our people and every community. Recent additions to the National Park System, such as the Medgar and Myrlie Evers Home National Monument, the Reconstruction Era National Historical Park, the Stonewall National Monument, and the César Chávez National Monument at the Chávez Residence in Delano, California—along with programs such as the African American Civil Rights Network, Underground Railroad Network to Freedom, and Tribal Heritage grants—reflect our commitment for our parks to serve as sources of support, validation, healing, and connection for people of color, Indigenous people, and others who have been historically marginalized and neglected. Our work to bring true equity to our parks is not yet done. The National Park System must continue to evolve to better reflect all of the people of our Nation, and to work in partnership with Tribal Nations whose historic and sacred lands often fall within the boundaries of National Parks and Monuments that have been dedicated through the years.

During National Park Week, let us dedicate ourselves to greater improvement, enjoyment, and preservation of our natural treasures, and to continue to find inspiration, strength, and all else we seek within them.

NOW, THEREFORE, I, JOSEPH R. BIDEN JR., President of the United States of America, by virtue of the authority vested in me by the Constitution and the laws of the United States, do hereby proclaim April 17 through April 25, 2021, as National Park Week. I encourage all Americans to find their park, recreate responsibly, and enjoy the benefits that come from spending time in the natural world. I also ask all park visitors to do their part to stop the spread of the coronavirus by wearing masks and practicing social distancing.

IN WITNESS WHEREOF, I have hereunto set my hand this seventeenth day of April, in the year of our Lord two thousand twenty-one, and of the Independence of the United States of America the two hundred and forty-fifth.

[FR Doc. 2021-08547

Filed 4-21-21; 8:45 am]

Billing code 3295-F1-P